GENERAL SERVICES ADMINISTRATION

[GSA Bulletin FTR 05-2]

Waivers to Federal Travel Regulation for TDY and PCS in Presidentially Declared Individual Assistance Disaster Areas in Alabama, Florida, Louisiana, and Mississippi

AGENCY: Office of Governmentwide Policy (MTT), GSA.

ACTION: Notice of a bulletin.

SUMMARY: Due to the scope of destruction caused by the recent natural disasters in Alabama, Florida, Louisiana, and Mississippi, agencies should consider delaying all non-essential TDY and PCS to the affected locations for a period of 90 days. This is especially important with PCS travel because the 120-day maximum for TQSE cannot be extended due to statutory restrictions. For travel which cannot be delayed, GSA adjusted several key allowances, as noted in the bulletin following this notice.

EFFECTIVE DATE: This bulletin is effective October 1, 2004.

FOR FURTHER INFORMATION CONTACT: Mr. Jim Harte, Office of Governmentwide Policy, Travel Management Policy Division (MTT), General Services Administration, Washington, DC 20405; e-mail, jim.harte@gsa.gov, or telephone (202) 501-0483.

Dated: October 1, 2004.
G. MARTIN WAGNER,
Associate Administrator, Office of Governmentwide Policy.

October 1, 2004.

GENERAL SERVICES ADMINISTRATION

[GSA Bulletin FTR 05-2]

TO: Heads of Federal Agencies

SUBJECT: Reimbursement for actual subsistence expenses, and waivers of certain provisions of the Federal Travel Regulation (FTR) (41 CFR 301 and 302) for temporary duty (TDY) or permanent change of station (PCS) travel of employees to Presidentially declared individual assistance disaster areas of Alabama, Florida, Louisiana, and Mississippi

1. Purpose. This bulletin informs agencies of the temporarily authorized use of actual subsistence expenses for official travel (both TDY and PCS) to the subject locations as a result of Hurricanes Charley, Frances, Ivan, and Jeanne, as well as Tropical Storm Bonnie, because it is expected that finding temporary lodging facilities may be difficult, and distances involved may be great.

The provisions in this bulletin are effective from the date of the Presidential declaration of a county as an individual assistance disaster area and apply only upon that designation for the subject states. The provisions of the bulletin expire as stated in paragraph 5.

2. Background. Due to the scope of destruction caused by these natural disasters, agencies should consider delaying all non-essential TDY and PCS to the affected locations for a period of 90 days. This is especially important with PCS travel because the 120-day maximum for TQSE cannot be extended due to statutory restrictions. If such TDY and PCS travel cannot be delayed due to mission requirements or personal hardships, then the following applies:

3. For PCS travel that cannot be delayed due to mission requirements or personal hardships the following applies: For temporary quarters subsistence expense (TQSE), the FTR provisions requiring that temporary quarters be in reasonable proximity to the new official station are hereby waived for the areas listed in paragraph 4. The maximum limit of 120 days that TQSE may be authorized remains in effect.

Additionally, the provisions of FTR 302-6.102 limiting per diem reimbursement to the standard CONUS rate for TQSE are hereby waived to allow the reimbursement of subsistence expenses at the locality per diem rate under the provisions of FTR 301-11.101 or an actual expense reimbursement allowance under FTR 301-11.300-306, at the discretion of the agency, for the areas specified in paragraph 4. The provisions of FTR 302-6.200-203 providing for fixed amount reimbursement option for TQSE remain in effect. In addition, for house hunting trips (HHT), the provisions of FTR 302-5.13 that restrict reimbursement of subsistence expenses to the lodgings-plus method are hereby waived. Thus, actual expense allowances under FTR 301-11.300-306 may be authorized, at the discretion of the agency, for those areas listed in paragraph 4. The provisions of FTR 302-5.13 providing for fixed amount reimbursement option for HHT remain in effect. In all cases, the provisions of 41 CFR 301-11.303 limiting actual expenses not to exceed 300 percent (rounded to the next higher dollar) of the applicable maximum per diem rate remains in effect.

4. Maximum rates. As a result of Hurricanes Charley, Frances, Ivan, and Jeanne, and Tropical Storm Bonnie, the provisions of FTR 301-11.300 and 301-11.70.200(f) requiring an agency determination that reimbursement under the actual expense method is appropriate are hereby waived for the locations specified below. Thus, agencies may approve actual subsistence expense reimbursement, not to exceed 300 percent of the applicable per diem rate, without further justification, for the following affected counties and parishes:

Florida (effective August 11, 2004):

The counties of Brevard, Charlotte, Collier, DeSoto, Dixie, Duval, Flager, Glades, Hardee, Hendry, Highlands, Indian River, Lake, Lee, Levy, Manatee, Monroe, Okeechobee, Orange, Osceola, Pasco, Polk, St. Johns, Sarasota, Seminole, and Volusia.

Florida (effective September 3, 2004):

The counties of Alachua, Baker, Bradford, Brevard, Broward, Charlotte, Citrus, Clay, Columbia, DeSoto, Dixie, Duval, Flagler, Gilchrist, Glades, Hardee, Hendry, Hernando, Highlands, Hillsborough, Indian River, Lake, Lee, Levy, Marion, Martin, Miami-Dade, Nassau, Okeechobee, Orange, Osceola, Palm Beach, Pasco, Pinellas, Polk, Putnam, Seminole, St. Johns, St. Lucie, Sumter, Union and Volusia Counties.

Alabama effective September 13, 2004:

The counties of Baldwin, Butler, Clarke, Coffee, Conecuh, Covington, Crenshaw, Escambia, Geneva, Mobile, Monroe, and Washington.

Florida (effective September 13, 2004):

The counties of Bay, Calhoun, Escambia, Franklin, Gadsden, Gulf, Holmes, Jackson, Leon, Liberty, Okaloosa, Santa Rosa, Taylor, Wakulla, Walton, and Washington.

Louisiana (effective September 13, 2004):

The parishes of Jefferson, Lafourche, Orleans, Plaquemines, St. Bernard, St, Charles, St. Tammany, and Terrebonne.

Mississippi (effective September 13, 2004):

The counties of George, Hancock, Harrison, Jackson, Perry, Stone, and Wayne.

5. Expiration date. This bulletin expires on December 31, 2004, unless sooner rescinded by this office.

6. For further information contact. Ms. Peggy Deprospero, Director, Travel Management Policy, at (202) 501-2826.

By delegation of the Administrator, General Services Administration.

[FR Doc. 04-22528 Filed 10-6-04; 8:45 am]

BILLING CODE 6820-14-S